DEPARTMENT OF TRANSPORTATION

Federal Aviation Administration

14 CFR Part 39

[Docket No. FAA-2023-2396; Project Identifier MCAI-2023-01147-R; Amendment 39-22641; AD 2023-25-14]

RIN 2120-AA64

Airworthiness Directives; Airbus Helicopters

AGENCY: Federal Aviation Administration (FAA), DOT.

ACTION: Final rule; request for comments.

SUMMARY: The FAA is superseding Airworthiness Directive (AD) 2022-27-09, which applied to certain Airbus Helicopters Model EC130T2 helicopters. AD 2022-27-09 required repetitively inspecting the vibration level on the tail rotor drive shaft and, depending on the results, taking corrective action. AD 2022-27-09 also required reporting information and prohibited installing certain rotor drive shafts unless the inspection was done. Since the FAA issued AD 2022-27-09, Airbus Helicopters revised its service information to update the procedures for inspecting that vibration level, reduce an allowable vibration level, and clarify when a balance correction may be accomplished. This AD was prompted by the determination that a certain vibration measurement tool was providing unexpected results and therefore the threshold must be revised. This AD continues to require certain actions in AD 2022-27-09 and also revises the procedures for inspecting the vibration level on the tail rotor drive shaft and depending on these results, requires replacing certain parts, as specified in a European Union Aviation Safety Agency (EASA) AD, which is incorporated by reference. The FAA is issuing this AD to address the unsafe condition on these products.

DATES: This AD is effective January 12, 2024.

The Director of the Federal Register approved the incorporation by reference of a certain publication listed in this AD as of December 28, 2023.

The FAA must receive comments on this AD by February 12, 2024.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

Material Incorporated by Reference:

• For EASA material identified in this final rule, contact EASA, Konrad-Adenauer-Ufer 3, 50668 Cologne, Germany; telephone +49 221 8999 000; email ADs@easa.europa.eu; You may find this material on the website ad.easa.europa.eu.

• You may view this material at the FAA, Office of the Regional Counsel, Southwest Region, 10101 Hillwood Parkway, Room 6N-321, Fort Worth, TX 76177. For information on the availability of this material at the FAA, call (817) 222 5110.

Other Related Service Information:

• For Airbus Helicopters service information identified in this final rule, contact Airbus Helicopters, 2701 North Forum Drive, Grand Prairie, TX 75052; phone (972) 641-0000 or (800) 232-0323; fax (972) 641-3775; or at airbus.com/en/products-services/helicopters/hcare-services/airbusworld. You may also view this service information at the FAA contact information under Material Incorporated by Reference above.

Examining the AD Docket

You may examine the AD docket at regulations.gov by searching for and locating Docket No. FAA-2023-2396; or in person at Docket Operations between 9 a.m. and 5 p.m., Monday through Friday, except Federal holidays. The AD docket contains this final rule, the EASA AD, any comments received, and other information. The street address for Docket Operations is listed above. Comments will be available in the AD docket shortly after receipt.

FOR FURTHER INFORMATION CONTACT: Dan McCully, Aviation Safety Engineer, FAA, 1600 Stewart Ave., Suite 410, Westbury, NY 11590; telephone (404) 474-5548; email william.mccully@faa.gov.

SUPPLEMENTARY INFORMATION:

Comments Invited

The FAA invites you to send any written data, views, or arguments about this final rule. Send your comments to an address listed under ADDRESSES. Include “Docket No. FAA-2023-2396; Project Identifier MCAI-2023-01147-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Dan McCully, Aviation Safety Engineer, FAA, 1600 Stewart Ave., Suite 410, Westbury, NY 11590; telephone (404) 474-5548; email william.mccully@faa.gov. Any commentary that the FAA receives that is not specifically designated as CBI will be placed in the public docket for this rulemaking.

Background

The FAA issued AD 2022-27-09, Amendment 39-22294 (88 FR 2199, January 13, 2023) (AD 2022-27-09), for certain Airbus Helicopters Model EC130T2 helicopters. AD 2022-01-05 was prompted by EASA Emergency AD 2022-0251-E, dated December 14, 2022 (EASA AD 2022-0251-E), originated by EASA, which is the Technical Agent for the Member States of the European Union. EASA AD 2022-0251-E was issued to correct an unsafe condition on Airbus Helicopters Model EC 130 T2 helicopters with modification 079809 incorporated in production. AD 2022-27-09 required repetitively inspecting the balancing of the tail rotor drive shaft by measuring the vibration level. Depending on the results, AD 2022-27-09 required accomplishing corrective action in accordance with a method approved by the FAA, EASA, or Airbus Helicopters' EASA Design Organization Approval, and reporting the results to Airbus Helicopters. Lastly, AD 2022-27-09 prohibited installing certain part-numbered tail rotor drive shafts on any helicopter unless its requirements were met. The FAA issued AD 2022-27-09 to address an excessive vibration level on the tail rotor drive shaft, which could result in failure of the tail rotor drive shaft and subsequent loss of yaw control of the helicopter.

Actions Since AD 2022-27-09 Was Issued

Since the FAA issued AD 2022-27-09, EASA superseded EASA AD 2022-0251-E by issuing EASA Emergency AD 2023-0190-E, dated November 2, 2023 (EASA AD 2023-0190-E), to correct an unsafe condition on Airbus Helicopters Model EC 130 T2 helicopters with modification 079809 incorporated in production. EASA AD 2023-0190-E states that it was identified that one of the vibration measurement tools was providing different results than expected and therefore it was determined that the threshold must be revised. Consequently, Airbus Helicopter revised its service information to provide updated vibration inspection instructions, reduce an allowable vibration level, and clarify when a balance correction may be accomplished. Accordingly, EASA AD 2023-0190-E retains the requirements of EASA AD 2022-0251-E and depending on the results of the updated vibration inspection, requires replacing certain parts with new (zero total hours time-in-service) parts. Additionally, EASA AD 2023-0190-E prohibits performing a balance correction unless it is performed concurrently with replacement of certain parts by following certain procedures. However, if a balance correction has already been performed independent of replacing the sliding flange and the splined sleeve equipped, EASA AD 2023-0190-E requires contacting Airbus Helicopter for further approved instructions. EASA considers its AD an interim action and states that further AD action may follow. See EASA AD 2023-0190-E for additional background information.

Additionally, the FAA discovered that an incorrect U.S. fleet count was provided in the Costs of Compliance section of AD 2022-27-09. This AD corrects that count.

Related Service Information Under 1 CFR Part 51

EASA AD 2023-0190-E requires repetitively checking the balancing of the tail rotor drive shaft by measuring the vibration level. Depending on the results, EASA AD 2023-0190-E requires replacing certain parts with new parts. EASA AD 2023-0190-E also prohibits performing a balance correction unless this action is performed concurrently with replacing certain parts. If a balance correction has already been performed independently of replacing those parts, EASA AD 2023-0190-E requires contacting Airbus Helicopters to obtain approved instructions and accomplishing those instructions. EASA AD 2023-0190-E also requires reporting the vibration measurements to Airbus Helicopters. Lastly, EASA AD 2023-0190-E prohibits installing certain part-numbered tail rotor drive shafts on any helicopter unless its requirements are met.

This material is reasonably available because the interested parties have access to it through their normal course of business or by the means identified in the ADDRESSES section.

Other Related Service Information

The FAA reviewed Airbus Helicopters Emergency Alert Service Bulletin No. EC130-05A042, Revision 1, dated November 2, 2023 (EASB EC130-05A042 Rev 1). This service information specifies procedures for measuring the vibration level on the tail rotor drive shaft, reporting the results to Airbus Helicopters, and replacing the sliding flange and the splined sleeve equipped.

The FAA also reviewed AMM Task 65-11-01,5-1A, Adjustment—Balancing of the tail rotor drive line (with the STEADY Control tuning equipment)—Tail Drive Line POST MOD 079809 and AMM Task 65-11-01,5-1B, Adjustment—Balancing of the tail rotor drive shaft (with the VIBREX 2000 adjustment equipment)—Tail Drive Line POST MOD 079809, both Update 2 and dated July 3, 2022. This service information specifies procedures for measuring the vibration level on the tail rotor drive shaft, analyzing the results, and balancing the tail rotor drive line or shaft.

FAA's Determination

These helicopters have been approved by EASA and are approved for operation in the United States. Pursuant to the FAA's bilateral agreement with the European Union, EASA has notified the FAA of the unsafe condition described in its emergency AD. The FAA is issuing this AD after evaluating all pertinent information and determining that the unsafe condition exists and is likely to exist or develop on other helicopters of the same type design.

AD Requirements

This AD retains certain requirements of AD 2022-27-09. This AD also requires accomplishing the actions specified in EASA AD 2023-0190-E, described previously, as incorporated by reference, except for any differences identified as exceptions in the regulatory text of this AD and except as discussed under “Differences Between this AD and the EASA Emergency AD.”

EASA AD 2023-0190-E refers to EASB EC130-05A042 Rev 1, for compliance times to replace the spline sleeve equipped and sliding flange. This AD requires those compliance times, as incorporated by reference, and are as follows:

Task used | Vibration measurement result | Compliance time
The maintenance task A: AH EC130 Aircraft Maintenance Manual (AMM) Task 65-11-01,5-1A (“Balancing of the tail rotor drive line”) | If the vibration level is equal to or more than 1.4 and less than 1.8 IPS If the vibration level is equal to or more than 1.8 and less than 2.6 IPS | Within 30 hours time-in-service (TIS) after the last inspection. Within 15 hours TIS after the last inspection.
| If the vibration level is equal to or more than 2.6 IPS | Before further flight.
The maintenance task B: AH EC130 AMM Task 65-11-01,5-1B (“Balancing of the tail rotor drive shaft”) | If the vibration level is equal to or more than 0.7 and less than 0.9 IPS | Within 30 hours TIS after the last inspection; or, if the last inspection was done before the effective date of this AD and more than 30 hours TIS have passed since that inspection, before further flight.
| If the vibration level is equal to or more than 0.9 and less than 1.3 IPS | Within 15 hours TIS after the last inspection; or, if the last inspection was done before the effective date of this AD and more than 15 hours TIS have passed since that inspection, before further flight.
| If the vibration level is equal to or more than 1.3 IPS | Before further flight.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, EASA AD 2023-0190-E will be incorporated by reference in this FAA final rule. This AD would, therefore, require compliance with EASA AD 2023-0190-E in its entirety through that incorporation, except for any differences identified as exceptions in the regulatory text of this AD. Using common terms that are the same as the heading of a particular section in EASA AD 2023-0190-E does not mean that operators need comply only with that section. For example, where the AD requirement refers to “all required actions and compliance times,” compliance with this AD requirement is not limited to the section titled “Required Action(s) and Compliance Time(s)” in EASA AD 2023-0190-E. Service information referenced in EASA AD 2023-0190-E for compliance will be available at regulations.gov by searching for and locating Docket No. FAA-2023-2396 after the FAA final rule is published.

Differences Between This AD and the EASA Emergency AD

EASA AD 2023-0190-E requires tail rotor drive shaft checks, whereas this AD requires tail rotor drive shaft inspections because those actions must be accomplished by persons authorized under 14 CFR 43.3.

For helicopters that accomplished a balance correction in accordance with the instructions of the applicable AMM before the effective date of EASA AD 2023-0190-E, except if this balance correction was accomplished before next flight after replacing the sliding flange and the splined sleeve equipped, EASA AD 2023-0190-E requires contacting AH [Airbus Helicopters] to obtain approved instructions, and within the compliance time(s) specified therein, accomplishing those instructions accordingly. Whereas, for helicopters that accomplished a balance correction in accordance with the instructions of the applicable AMM before the effective date of this AD, except not those that only accomplished a balance correction before the next flight after installing a new (zero total hours time-in-service) sliding flange and a new (zero total hours time-in-service) splined sleeve equipped, this AD requires corrective action accomplished in accordance with a method approved by the FAA, EASA, or Airbus Helicopters' EASA Design Organization Approval.

EASA AD 2023-0190-E requires reporting information to AH [Airbus Helicopters], whereas this AD does not.

EASA AD 2023-0190-E allows credit for the initial instance of the vibration measurements accomplished before its effective date, whereas this AD allows credit for any instance of the vibration measurements accomplished before the effective date of this AD.

EASA AD 2023-0190-E prohibits performing a balance correction, except if it is accomplished as part of its requirements. This AD does not, because such a compliance time would be difficult to enforce.

Interim Action

The FAA considers this AD interim action. If final action is later identified, the FAA might consider further rulemaking then.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies foregoing notice and comment prior to adoption of this rule because the tail rotor drive shaft is critical to the control of a helicopter and a failure of the tail rotor drive shaft could occur during any phase of flight without previous indication. The FAA also has no information pertaining to how quickly the condition may propagate to failure. In light of this and, depending how many hours the helicopter has accumulated, for some operators the initial inspection must be accomplished before further flight. For other operators, the initial inspection must be accomplished before accumulating 50 total hours time-in-service or within three months, whichever occurs first, which is shorter than the time necessary for the public to comment and for publication of the final rule. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forgo notice and comment.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 117 helicopters of U.S. Registry. Labor rates are estimated at $85 per work-hour. Based on these numbers, the FAA estimates the following costs to comply with this AD.

Inspecting the tail rotor drive shaft takes approximately 4 work-hours for an estimated cost of $340 per helicopter and $39,780 for the U.S. fleet, per inspection cycle.

If required, replacing the sliding flange and the splined sleeve equipped takes approximately 40 work-hours and parts cost $3,420 for an estimated cost of $6,820, per replacement cycle.

For helicopters that accomplished a balance correction in accordance with the instructions of the applicable AMM before the effective date of this AD, except not those that only accomplished a balance correction before the next flight after installing a new (zero total hours time-in-service) sliding flange and a new (zero total hours time-in-service) splined sleeve equipped, the corrective action that may be needed could vary significantly from helicopter to helicopter. The FAA has no data to determine the costs to accomplish the corrective action or the number of helicopters that may require corrective action.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national Government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2022-27-09, Amendment 39-22294 (88 FR 2199, January 13, 2023); and

b. Adding the following new airworthiness directive:

2023-25-14 Airbus Helicopters: Amendment 39-22641; Docket No. FAA-2023-2396; Project Identifier MCAI-2023-01147-R.

(a) Effective Date

This airworthiness directive (AD) is effective January 12, 2024.

(b) Affected ADs

This AD replaces AD 2022-27-09, Amendment 39-22294 (88 FR 2199, January 13, 2023) (AD 2022-27-09).

(c) Applicability

This AD applies to Airbus Helicopters Model EC130T2 helicopters, certificated in any category, as identified in European Union Aviation Safety Agency (EASA) Emergency AD 2023-0190-E, dated November 2, 2023 (EASA AD 2023-0190-E).

(d) Subject

Joint Aircraft Service Component (JASC) Code: 6510, Tail Rotor Drive Shaft.

(e) Unsafe Condition

This AD was prompted by a report of a crack in the tailboom. The FAA is issuing this AD to address an excessive vibration level on the tail rotor drive shaft. The unsafe condition, if not addressed, could result in failure of the tail rotor drive shaft and subsequent loss of yaw control of the helicopter.

(f) Compliance

Comply with this AD within the compliance times specified, unless already done.

(g) Requirements

Except as specified in paragraphs (h) and (i) of this AD: Comply with all required actions and compliance times specified in, and in accordance with, EASA AD 2023-0190-E.

(h) Exceptions to EASA AD 2023-0190-E

(1) Where EASA AD 2023-0190-E requires compliance in terms of flight hours, this AD requires using hours time-in-service.

(2) Where EASA AD 2023-0190-E refers to the effective date of December 16, 2022 (the effective date of EASA AD 2022-0251-E, dated December 14, 2022), this AD requires using the effective date of January 30, 2023 (the effective date of AD 2022-27-09).

(3) Where EASA AD 2023-0190-E refers to its effective date, this AD requires using the effective date of this AD.

(4) Where EASA AD 2023-0190-E refers to tail rotor drive shaft checks, this AD requires tail rotor drive shaft inspections.

(5) Where Note 1 of EASA AD 2023-0190-E states, “Unless indicated otherwise, the FH specified in Table 1 of this AD are those accumulated by the helicopter since first flight, or since the installation of the new spline sleeve equipped and sliding flange;” for this AD, replace that text with “Unless indicated otherwise, the hours time-in-service specified in Table 1 of this AD are those accumulated by the helicopter since first flight, or since the installation of the new spline sleeve equipped and sliding flange, as applicable to your helicopter.”

(6) This AD does not allow the provisions in Note 2 of EASA AD 2023-0190-E or Note 2 in the ASB referenced in EASA AD 2023-0190-E. Refer to paragraph (j) of this AD for special flight permit information.

(7) Where paragraphs (2) and (3) of EASA AD 2023-0190-E require removing parts, this AD requires removing those parts from service.

(8) Where paragraph (4) of EASA AD 2023-0190-E specifies to “contact AH [Airbus Helicopters] to obtain approved instructions, and within the compliance time(s) specified therein, accomplish those instructions accordingly;” for this AD, replace that text with “accomplish corrective action in accordance with a method approved by the Manager, International Validation Branch, FAA; or EASA; or Airbus Helicopters' EASA Design Organization Approval (DOA). If approved by the DOA, the approval must include the DOA-authorized signature.”

(9) This AD does not require compliance with paragraph (5) of EASA AD 2023-0190-E.

Note 1 paragraph (h)(9): Accomplishing a balance correction other than with the replacement of tail rotor drive line parts could interfere with subsequent tail rotor drive line balancing inspections. Airbus Helicopters Emergency Alert Service Bulletin No. EC130-05A042, Revision 1, dated November 2, 2023, contains additional information regarding balance corrections.

(10) This AD does not require compliance with paragraph (6) of EASA AD 2023-0190-E.

(11) Instead of the credit allowed in paragraph (7) of EASA AD 2023-0190-E, you may take credit for the vibration measurements required by paragraph (1) of EASA AD 2023-0190-E that have been accomplished before the effective date of this AD using Airbus Helicopters Emergency Alert Service Bulletin No. EC130-05A042, Revision 0, dated December 14, 2022.

(12) Instead of the credit allowed in paragraph (8) of EASA AD 2023-0190-E, you may take credit for accomplishing “maintenance task B,” as defined in EASA AD 2023-0190-E and required by paragraph (3) of EASA AD 2023-0190-E, to satisfy the initial instance of “maintenance task B,” as defined in EASA AD 2023-0190-E and required by paragraph (2) of EASA AD 2023-0190-E.

(13) This AD does not adopt the “Remarks” section of EASA AD 2023-0190-E.

(i) No Reporting Requirement

Although the service information referenced in EASA AD 2023-0190-E specifies to submit certain information to the manufacturer, this AD does not include that requirement.

(j) Special Flight Permit

Special flight permits may be issued in accordance with 14 CFR 21.197 and 21.199 only to operate the helicopter to a maintenance location for the initial tail rotor drive shaft inspection, provided no passengers are onboard.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l)(1) of this AD. Information may be emailed to: 9-AVS-AIR-730-AMOC@faa.gov.

(2) Before using any approved AMOC, notify your appropriate principal inspector, or lacking a principal inspector, the manager of the local flight standards district office/certificate holding district office.

(l) Additional Information

(1) For more information about this AD, contact Dan McCully, Aviation Safety Engineer, FAA, 1600 Stewart Ave., Suite 410, Westbury, NY 11590; telephone (404) 474-5548; email william.mccully@faa.gov.

(2) For Airbus Helicopters service information identified in this AD that is not incorporated by reference, contact Airbus Helicopters, 2701 North Forum Drive, Grand Prairie, TX 75052; phone (972) 641-0000 or (800) 232-0323; fax (972) 641-3775; or at airbus.com/en/products-services/helicopters/hcare-services/airbusworld. You may view this service information at the FAA, Office of the Regional Counsel, Southwest Region, 10101 Hillwood Parkway, Room 6N-321, Fort Worth, TX 76177. For information on the availability of this material at the FAA, call (817) 222-5110.

(m) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) Emergency AD 2023-0190-E, dated November 2, 2023.

(ii) [Reserved]

(3) For EASA material, contact EASA, Konrad-Adenauer-Ufer 3, 50668 Cologne, Germany; telephone +49 221 8999 000; email ADs@easa.europa.eu; website easa.europa.eu. You may find the EASA material on the EASA website ad.easa.europa.eu.

(4) You may view this service information at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on December 22, 2023.
Caitlin Locke,
Director, Compliance & Airworthiness Division, Aircraft Certification Service.

[FR Doc. 2023-28720 Filed 12-26-23; 11:15 am]

BILLING CODE 4910-13-P